NUCLEAR REGULATORY COMMISSION

[DOCKET NO. 52-016; NRC-2008-0250]

Calvert Cliffs 3 Nuclear Project, LLC and Unistar Nuclear Operating Services, LLC; Notice of Availability of the Final Environmental Impact Statement for the Combined License Application for Calvert Cliffs Nuclear Power Plant Unit 3

Notice is hereby given that the U.S. Nuclear Regulatory Commission (NRC) and the U.S. Army Corps of Engineers, as a cooperating agency, have published a final environmental impact statement (EIS), NUREG-1936, for the Calvert Cliffs Nuclear Power Plant (CCNPP), Unit 3 Combined License (COL) application. The site is located near the town of Lusby in Calvert County, Maryland, on the west shore of the Chesapeake Bay. A notice of availability of the draft EIS was published by the NRC in the Federal Register on April 21, 2010 (76 FR 20867), and by the U.S. Environmental Protection Agency on April 26, 2010 and April 30, 2010 (76 FR 21625 and 76 FR 22778).

The purpose of this notice is to inform the public that NUREG-1936, “Environmental Impact Statement for the Combined License for the Calvert Cliffs Nuclear Power Plant Unit 3: Final Report,” is available for public inspection in the NRC Public Document Room (PDR) located at One White Flint North, 11555 Rockville Pike (First Floor) Rockville, MD 20852, or from the Publicly Available Records component of NRC Agencywide Documents Access and Management System (ADAMS). ADAMS is accessible from the NRC Web site at www.nrc.gov/reading-rm/adams.html which provides access through the NRC Electronic Reading Room link. The accession numbers in ADAMS for the final EIS are ML11129A167 and ML11129A179. Persons who do not have access to ADAMS or who encounter problems in accessing the documents located in ADAMS should contact the PDR reference staff by telephone at 1-800-397-4209 or 1-301-415-4737, or by sending an e-mail to PDR.resource@nrc.gov. The final EIS may also be viewed on the Internet at: http://www.nrc.gov/reactors/new-reactors/col/calvert-cliffs/documents/nrc-2011.html. In addition, the following public libraries in the vicinity of the CCNPP site have agreed to make the final EIS available for public inspection: Calvert Library, Southern Branch located at 20 Appeal Lane, Lusby, Maryland; and Calvert Library, Prince Frederick located at 850 Costley Way, Prince Frederick, Maryland. The U.S. Environmental Protection Agency will also publish a Notice of Filing in the Federal Register which is expected to be on May 20, 2011. Such notices are published every Friday.

For Further Information Contact: Ms. Laura Quinn, Project Manager, Environmental Projects Branch 3, Division of Site and Environmental Reviews, Office of New Reactors, U.S. Nuclear Regulatory Commission, Washington, DC 20555-0001. Ms. Quinn may be contacted by telephone at 301-415-2220, or via e-mail to Laura.Quinn@nrc.gov.

Dated at Rockville, Maryland, this 13th day of May, 2011.
For the Nuclear Regulatory Commission.
Gregory P. Hatchett,
Acting Deputy Director, Division of Site and Environmental Reviews, Office of New Reactors.

[FR Doc. 2011-12458 Filed 5-19-11; 8:45 am]

BILLING CODE 7590-01-P